DEPARTMENT OF ENERGY

Federal Energy Regulatory Commission

[Project No.1864-005]

Upper Peninsula Power Company; Notice of Availability of Draft Environmental Impact Statement

December 11, 2001.

In accordance with the National Environmental Policy Act of 1969 and the Federal Energy Regulatory Commission's (FERC or Commission) regulations, 18 CFR part 380 (Order No. 486, 52 FR 47897), the Office of Energy Projects staff has reviewed the applications for new license for the Bond Falls Project, and has prepared a draft Environmental Impact Statement (EIS) for the project. In the draft EIS, the Commission's staff has analyzed the potential environmental impacts of the existing projects and has recommended that approval of the projects, with appropriate environmental protection measures, would be in the public interest.

Copies of the draft EIS are available for review in the Public Reference Branch, Room 2-A, of the Commission's offices at 888 First Street, NE, Washington, DC 20426.

Any comments should be filed within 60 days from the date of this notice and should be addressed to Linwood A. Watson, Jr., Acting Secretary, Federal Energy Regulatory Commission, 888 First Street, NE., Washington, DC 20246. Please affix “Bond Falls Project No. 1864-005,” as appropriate, to all comments. For further information, please contact Patrick Murphy at (202) 219-2659.

Linwood A. Watson, Jr.,
Acting Secretary.

[FR Doc. 01-31086 Filed 12-17-01; 8:45 am]

BILLING CODE 6717-01-P